OFFICE OF THE UNITED STATES TRADE REPRESENTATIVE

Notice of Meeting of the Industry Sector Advisory Committee on Small and Minority Business (ISAC-14)

AGENCY: Office of the United States Trade Representative

ACTION: Notice of open meeting.

SUMMARY: The Industry Sector Advisory Committee on Small and Minority Business (ISAC-14) will hold an open meeting on August, 9, 2000, from 1:30 p.m. to 3 p.m.

DATES: The meeting is scheduled for August 9, 2000, unless otherwise notified.

ADDRESSES: The meeting will be held at the Department of Commerce Room B841, located at 14th Street and Constitution Avenue, NW., Washington, DC, unless otherwise notified.

FOR FURTHER INFORMATION CONTACT: Millie Sjoberg or Cory Churches, Department of Commerce, 14th St. and Constitution Ave., NW., Washington, DC 20230, (202) 482-4792 or Emory Mayfield, Office of the United States Trade Representative, 1724 F St. NW., Washington, DC 20508, (202) 395-6120.

SUPPLEMENTARY INFORMATION: The ISAC-14 will hold an open meeting on August 9, 2000, from 1:30 a.m. to 3:00 p.m. The agenda topic will be development of ISAC 14 advice on the future of the Advisory Committee Process.

Dominic Bianchi,
Acting Assistant, United States Trade Representative for Intergovernmental Affairs and Public Liaison.

[FR Doc. 00-19084 Filed 7-27-00; 8:45 am]

BILLING CODE 3190-01-M